DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 31, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: Foot-and-Mouth Disease; Prohibition on Importation of Farm Equipment.

OMB Control Number: 0579-0195.

Summary of Collection: The Animal Health Protection Act (AHPA) of 2002 is the primary Federal law governing the protection of animal health. (The AHPA is contained in Title X, Subtitle E, Sections 10401-18 of Public Law 107-171, May 13, 2002, the Farm Security and Rural Investment Act of 2002, and can be found at 7 U.S.C. 8301 et. seq.) It gives the Secretary of Agriculture broad authority to detect, control, or eradicate pests or diseases of livestock or poultry. The Secretary may also prohibit or restrict import or export of any animal or related material if necessary, to prevent the spread of any livestock or poultry pest or disease.

As a result of the occurrences of foot-and-mouth disease (FMD) in different parts of the world, under 9 CFR 94.1(c) APHIS prohibits the importation of all used farm equipment into the United States from regions in which FMD exists, unless the exporter provides certification signed by an authorized official of the national animal health service of the exporting region stating that the equipment, after its last use and prior to export, has been steam-cleaned free of all exposed dirt and particulate material in the exporting region. APHIS inspects all such farm equipment to ensure it complies with the regulations.

Need and Use of the Information: APHIS will collect information through the use of a certification statement completed by the farm equipment exporter and signed by an authorized official of the national animal health service of the region of origin, stating that the steam-cleaning of the equipment was done prior to export to the United States. This is necessary to help prevent the introduction of FMD into the United States. If the information were not collected APHIS would be not be able to determine risk associated with importing farm equipment and would be forced to stop the importation of used farm equipment from FMD affected regions. This could financially impact exporters and importers of the equipment.

Description of Respondents: Business or other for-profit; Federal Government.

Number of Respondents: 77.

Frequency of Responses: Reporting: On occasion.

Total Burden Hours: 78.

Rachelle Ragland-Greene,
Departmental Information Collection Clearance Officer.

[FR Doc. 2025-03164 Filed 2-26-25; 8:45 am]

BILLING CODE 3410-34-P